DEPARTMENT OF TRANSPORTATION

Research and Special Programs Administration

Office of Hazardous Materials Safety; Notice of Applications for Exemptions

AGENCY: Research and Special Programs Administration, DOT.

ACTION: List of Applicants for Exemptions.

SUMMARY: In accordance with the procedures governing the applications for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before November 3, 2003.

ADDRESS COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC 20590 or at http://dms.dot.gov.

This notice of receipt of application for new exemptions is published in accordance with Part 107 of the Federal hazardous materials transportation law (49 U.S.C. 5117(b); 49 CFR 1.53(b)).

Issued in Washington, DC, on September 26, 2003.
R. Ryan Posten,
Exemptions Program Officer, Office of Hazardous Materials, Exemptions and Approvals.

New Exemptions
Application number | Docket number | Applicant | Regulation(s) affected | Nature of exemption thereof
13289-N |  | TITEQ Corporation Palmdale, CA | 49 CFR 173.302(a)(3), 175.3;178.65 | To authorize the manufacture, marking, sale and use of a limited life, non-refillable non-DOT specification steel cylinder similar to DOT Specification 39 for use in transporting certain Division 2.2 hazardous materials. (modes 1, 2, 4)
13290-N |  | Teris, L.L.C. Camarillo, CA | 49 CFR 173.188 | To authorize the transportation in commerce of waste white phosphorus, Division 4.2, in 30 gallon 1H2 plastic drums further packaged in 1A2 steel 55 gallon drums banded together and palletized. (mode 1)
13292-N |  | Seaquist Perfect Dispensing Cary, IL | 49 CFR 173.306(h) | To authorize the manufacture, mark, sale and use of plastic containers of not more than 20 fluid ounces pressurized with a non-flammable, non-toxic gas to a maximum pressure of 150 psi for transportation of consumer commodities. (modes 1, 2)
13293-N |  | Penox Technologies, LLC Pitts, PA | 49 CFR 173.316 | To authorize the transportation in commerce of a non-DOT specification cylinder equipped with an alternative heat transfer design pressure for use in transporting oxygen, refrigerated liquid, Division 2.2. (mode 1)
13294-N |  | BOC Edwards San Marcos, CA | 49 CFR 173.211, 173.242 | To authorize the transportation in commerce of electrolyte cells to be shipped in bulk in alternative packaging. (mode 1)
13295-N |  | Taylor-Wharton Harrisburg, PA | 49 CFR 172.203(a), 172.203(a), 172.301, 173.302 | To authorize the manufacture, marking, sale and use of non-DOT specification seamless steel cylinders for use in transporting certain compressed gases. (modes 1, 2, 3, 4)

[FR Doc. 03-24966 Filed 10-1-03; 8:45 am]

BILLING CODE 4910-60-M